DEPARTMENT OF THE INTERIOR

National Park Service

Kaloko-Honokohau National Historical Park; Advisory Commission; Notice of Meeting

Notice is hereby given in accordance with the Federal Advisory Committee Act that a meeting of the Na Hoapili O Kaloko Honokohau, Kaloko-Honokohau National Historical Park Advisory Commission will be held at 9 a.m., November 18, 2005 at Kaloko-Honokohau National Historical Park headquarters, Kailua-Kona, Hawaii.

The agenda will be on discussions on the preliminary planning for the Live-In Cultural/Education Center.

The meeting is open to the public. Disabled persons requiring special assistance should contact the Superintendent at (808) 329-6881 ext 7, seven days prior to the meeting.

Minutes will be recorded for documentation and transcribed for dissemination. Minutes of the meeting will be available to the public after approval of the full Advisory Commission. Transcripts will be available after 30 days of the meeting.

For copies of the minutes, contact Kaloko-Honokohau National Historical Park at (808) 329-6881.

Dated: October 5, 2005.
Geraldine K. Bell,
Superintendent, Kaloko-Honokohau National Historical Park.

[FR Doc. 05-21223 Filed 10-24-05; 8:45 am]

BILLING CODE 4312-6H-M